DEPARTMENT OF THE INTERIOR

National Park Service

Potomac Heritage National Scenic Trail; Guidelines for Developing an Application Requesting Designation of a Trail as a Segment of the Potomac Heritage National Scenic Trail

AGENCY: Department of the Interior, National Park Service, Potomac Heritage National Scenic Trail.

ACTION: Availability of guidelines.

SUMMARY: In 1983 Congress amended the National Trails System Act, designating a corridor for the Potomac Heritage National Scenic Trail between the mouth of the Potomac River and the Laurel Highlands in western Pennsylvania (16 U.S.C. 1244(a)(11)(2000)). The legislation authorizes the Secretary of the Interior to “designate” trails, outside of federally administered areas, as segments of the Potomac Heritage National Scenic Trail (the PHNST) based upon applications by local and state agencies. The authority for designation is delegated to the National Park Service in the Departmental Manual Part 245. Based on consultations with citizens organizations, local governments, regional authorities and state agencies, the guidelines reflect plans by local and state agencies for the development of segments of the PHNST. The guidelines provide such agencies with criteria for developing applications for designation of trails as segments of the PHNST.

DATES: Effective Date: October 23, 2002.

ADDRESSES: Comments and requests for copies of a document on which this notice is based should be addressed to: Superintendent, Potomac Heritage National Scenic Trail Office, Post Office Box B, Harpers Ferry, WV 25425. Our practice is to make comments, including names and addresses of respondents, available for public review during regular business hours. Individual respondents may request that we withhold their home address from the record, which we will honor to the extent allowable by law. There may also be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Donald E. Briggs, Superintendent (Coordinator), Potomac Heritage National Scenic Trail, 304-535-4016 or don_briggs@nps.gov.

SUPPLEMENTARY INFORMATION:

Background

The Potomac River and upper Ohio River basins have nurtured communities, trade and migration for nearly 10,000 years—from ancient villages and trade routes established by American Indians to the pathways used by our Nation's founders, from the darkest days during the Civil War and to the beginnings of the modern conservation movement. Today, citizens groups, regional organizations, local and state government agencies and federal agencies in the Potomac River corridor and in southwestern Pennsylvania are seeking ways to make connections among the special places that reflect this history, to tell stories associated with the national significance of the region and to establish a network of recreational trails and related educational opportunities. Many have been drawn to the idea behind and legislation for the PHNST.

Acting upon information in a study completed by the Bureau of Outdoor Recreation in 1974, Congress in 1983 amended the National Trails System Act, establishing a federal interest in development of the PHNST (16 U.S.C. 1244(a)(11)(2000)).

The amendment:

• Designated a corridor for the PHNST along both sides of the Potomac River between the Chesapeake Bay and the vicinity of Cumberland, Md., and between Cumberland and the Laurel Highlands Trail in western Pennsylvania;

• Precluded designations in the State of West Virginia; and

• Authorized the Secretary of the Interior to “designate lands outside of federally administered areas as segments of the trail, only upon application from the States or local governmental agencies involved, if such segments meet the criteria established in this chapter and are administered by such agencies without expense to the United States.”

Authority for the “designation” of non-Federal segments of the PHNST is similar in intent and process to trail site and segment “certification” authority provided in 16 U.S.C. 1242(a)(3)(2000) for the administration of national historic trails.

Subsequent legislation, passed in 1986, directed the Secretary to recognize the 70-mile Laurel Highlands Hiking Trail (the LHHT), managed by the Pennsylvania Department of Conservation and Natural Resources, as a segment of the PHNST. In addition to the LHHT, the 184.5-mile C&O Canal Towpath, managed by C&O Canal National Historical Park, and the 17-mile Mount Vernon Trail, managed by George Washington Memorial Parkway, are recognized as segments of the PHNST.

Other trails, projects and programs in the corridor also contribute to the concept of the PHNST. Based on the 1974 study and 1983 amendment, local and state governments, regional authorities and federal agencies are creating a braided network of trails for hiking, bicycling, horseback riding and boating in the PHNST corridor. Some local governments and authorities have purchased and/or accepted lands and/or easements on lands for the purpose of building the PHNST segments. As more and more communities weave connections among local history, outdoor spaces and culture, they build upon the PHNST designation by linking local initiatives with elements of our national history. The developing physical and programmatic network increasingly provides residents and visitors with an experience in the PHNST corridor comprised of three related elements:

1. A regional system of trails for non-motorized travel, recreation and exploration;

2. A set of physical and conceptual “gateways” to local trail corridors and related resources and activities at various locations in the PHNST corridor; and

3. A range of active and passive educational opportunities associated with the national significance of the corridor.

Based on plans for the PHNST by local and state agencies, as well as consultations with regional authorities, citizen organizations and other federal agencies, these guidelines provide criteria for developing applications for designation of non-Federal trails as segments of the PHNST.

Designation of trails provides local and state agencies and others with opportunities to realize the following benefits:

• Coordination among citizens groups, local jurisdictions, state agencies and federal land managers seeking to conserve landscapes, to develop non-motorized transportation options and to develop outdoor educational opportunities and heritage tourism programs in the PHNST corridor;

• Use of the official the PHNST marker (trail logo) in marketing, information and educational programs;

• Priority consideration for funds to support the PHNST-related projects and partners through the NPS Challenge Cost-Share Program; and

• Technical assistance with:

• Corridor planning

• Project development and implementation

• Fund-raising

• Interpretive planning and educational program and project development

• Marketing and promotion

• Communications and public involvement

• Heritage tourism projects.

Guidelines

In consultation with the Superintendent, Potomac Heritage National Scenic Trail, National Park Service, applications by local and state agencies requesting the designation of a trail as a segment of the PHNST must meet the following criteria:

(1) The proposed trail corridor contains significant natural, historical and cultural resources and related educational opportunities associated with the primary themes for which the PHNST corridor is nationally significant:

(a) The Potomac River and upper Ohio River tributaries as an East-West transportation corridor, especially George Washington's vision of a connection between the Atlantic Ocean and the Forks of the Ohio River;

(b) Migration, establishment and conflict of cultures; and evolution, stress on and restoration of river ecosystems.

2. The trail provides opportunities for at least one form of non-motorized travel (e.g., hiking, jogging or running, bicycling, horseback riding, canoeing, kayaking and/or sailing).

3. The trail contributes to the quality of life for residents of communities in the trail corridor and to the experience of visitors to the trail corridor.

4. The trail acts as a primary route in and contributes to a developing network of trails for non-motorized travel between the Chesapeake Bay and the Laurel Highlands, providing a logical connection, on land or water, between public resources (e.g., other trails, parks, river access points, etc.) within one or more of the following jurisdictions:

—The District of Columbia.

—The following counties in the State of Maryland: St. Mary's; Charles; Prince George's; Montgomery; Frederick; Washington; and Allegheny.

—The following counties in the Commonwealth of Pennsylvania: Somerset; Fayette; and Westmoreland.

—The following counties in the Commonwealth of Virginia: Northumberland; Westmoreland; Lancaster; Richmond; King George; Stafford; Prince William; Fairfax; Arlington; and Loudoun.

5. The applicant agrees to maintain some combination of regional informational exhibits (describing, among other points, the trail and its contribution to the PHNST), educational exhibits, and/or staffed visitor centers to serve as “gateways” to the trail corridor, to communities associated with the trail corridor and to the history and ecology of the region.

6. The trail will be administered at no additional cost to the federal government.

(7) The applicant, in partnership with the National Park Service, has completed a management plan which describes:

(a) The trail corridor, trail (including location) and the contribution, as a component of the region's infrastructure, that the trail makes to the quality of life for residents of and visitors to communities associated with the trail corridor;

(b) Permitted public uses and types of experiences provided by the trail;

(c) Policies, objectives, practices and agreements employed to maintain the trail and to conserve the trail corridor (i.e., to maintain the scenic, natural, cultural and/or recreational values for which the trail qualifies as a segment of the PHNST), including planned seasonal closures to maintain the integrity of the resource or to reduce conflicts between and among various user groups (e.g., to protect wildlife breeding or migrating areas or to permit hunting);

(d) Compliance with applicable Federal regulations;

(e) Related conservation and/or development plans (including plans to provide recreational, educational and interpretive opportunities); and

(f) A marking system used to identify the trail route.

Applications for designation of trails as segments of the PHNST should be sent to the Regional Director, National Capital Region, National Park Service, 1100 Ohio Drive SW., Washington, DC 20242, attn: Superintendent, Potomac Heritage National Scenic Trail.

Dated: June 28, 2002.
Terry R. Carlstrom,
Regional Director, National Capital Region.

[FR Doc. 02-24061 Filed 9-20-02; 8:45 am]

BILLING CODE 4310-70-P